FEDERAL RESERVE SYSTEM

Privacy Act of 1974; System of Records

AGENCY: Board of Governors of the Federal Reserve System.

ACTION: Notice of a New System of Records.

SUMMARY: Pursuant to the provisions of the Privacy Act of 1974, notice is given that the Board of Governors of the Federal Reserve System (Board) proposes to establish a new system of records, entitled BGFRS-44, “FRB—Public Health and Safety System.” This system of records maintains information collected in response to a public health emergency, such as a pandemic or disaster, or other health and safety concerns when necessary to ensure a safe and healthy environment for Board employees, contractors, and other individuals who work for the Board.

DATES: Comments must be received on or before December 6, 2021. This new system of records will become effective December 6, 2021, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-44 “FRB—Public Health and Safety System,” by any of the following methods:

• Agency website: https://www.federalreserve.gov. Follow the instructions for submitting comments at https://www.federalreserve.gov/apps/foia/proposedregs.aspx.

• Email: regs.comments@federalreserve.gov. Include name and number in the subject line of the message.

• Fax: (202) 452-3819 or (202) 452-3102.

• Mail: Ann E. Misback, Secretary, Board of Governors of the Federal Reserve System, 20th Street and Constitution Avenue NW, Washington, DC 20551.

All public comments will be made available on the Board's website at https://www.federalreserve.gov/apps/foia/proposedregs.aspx as submitted, unless modified for technical reasons or to remove sensitive personally identifiable information. Public comments may also be viewed electronically and printed in Room 146, 1709 New York Avenue NW, Washington, DC 20006, between 9:00 a.m. and 5:00 p.m. on weekdays.

FOR FURTHER INFORMATION CONTACT: David B. Husband, Senior Counsel, (202) 530-6270, or david.b.husband@frb.gov; or Mary Bigloo, Senior Counsel, (202) 475-6361, or mary.bigloo@frb.gov; Legal Division, Board of Governors of the Federal Reserve System, 20th Street and Constitution Avenue NW, Washington, DC 20551.

SUPPLEMENTARY INFORMATION: The Board is establishing this system of records under the Privacy Act of 1974. The Board is committed to providing Board employees, contractors, and other individuals who work for the Board with a safe and healthy environment. To ensure and maintain the safety of these individuals in response to a public health emergency, such as a pandemic or disaster, or other health and safety concerns, the Board may develop and institute safety measures that necessitate the collection of personal information.

These measures may require individuals who work for the Board to provide relevant medical and health information. This information could include information about potential or confirmed exposures to communicable diseases or hazardous agents or materials. This information may also include, for example, test results for communicable diseases and information about vaccination status for communicable diseases (including attestations of vaccination status as well as proof of vaccination), information about requests for exemptions by Board employees and others who work for the Board from vaccination requirements and the basis for such requests (such as religious beliefs or medical conditions). In the case of suspected or confirmed exposures to communicable diseases or hazardous agents or materials occurring either at Board facilities, events, or elsewhere during the conduct of official Board business, the Board may also collect contact tracing information in order to trace exposed individuals and notify such individuals and public health authorities to prevent further exposure.

SYSTEM NAME AND NUMBER:

BGFRS-44, “FRB—Public Health and Safety System”

SECURITY CLASSIFICATION:

Unclassified.

SYSTEM LOCATION:

Board of Governors of the Federal Reserve System, 20th Street and Constitution Avenue NW, Washington, DC 20551.

SYSTEM MANAGER(S):

John Forbes, Program Manager, Employee Life, Human Resources, Management Division, Board of Governors of the Federal Reserve System, 20th Street and Constitution Avenue NW, Washington, DC 20551, (202) 974-7052, or john.b.forbes@frb.gov.

AUTHORITY FOR MAINTENANCE OF THE SYSTEM:

Sections 10 and 11 of the Federal Reserve Act (12 U.S.C. 243, 244, and 248).

PURPOSE(S) OF THE SYSTEM:

These records are collected and maintained to aid in efforts to protect and safeguard the premises, grounds, property, personnel, and operations of the Board and to ensure and maintain the health and safety of Board employees, contractors, and other individuals who work for the Board in response to a public health emergency, such as a pandemic or disaster, or other health and safety concerns.

CATEGORIES OF INDIVIDUALS COVERED BY THE SYSTEM:

Past and present Board employees, contractors, and other individuals who work for the Board.

CATEGORIES OF RECORDS IN THE SYSTEM:

This system maintains information collected about Board employees, contractors, and other individuals who work for the Board in response to a public health emergency, such as a pandemic or disaster, or other health and safety concerns. The information collected about these individuals may include but is not limited to:

(a) Biographical and personal information, such as name, contact information, whether the individual is in a high-risk category or has a household member, relative, or close associate that is in a high-risk category, and dates and locations of recent travel;

(b) Health information including, but not limited to, medical symptoms, temperature checks, expected or confirmed test results, potential or actual exposure to a communicable disease or hazardous agent or material, immunization and vaccination information or records, and other relevant medical information and history;

(c) Information necessary to conduct contact tracing that includes, but is not limited to, the dates and times the individual was on-site at Board facilities, the locations the individual accessed (e.g., office and cubicle number), and whether they may have potentially come into close contact with individuals who have probable or confirmed diagnoses of communicable diseases or exposures to hazardous agents or materials; and

(d) Attestations and proof of vaccination status as well as information relating to requests to be exempt from a vaccination requirement, including the basis for the request, medical information related to the request, and all information related to the Board's response to the request.

RECORD SOURCE CATEGORIES:

Information is generally provided by the individual to whom the record pertains, the individual's medical provider, or other system or entity that may retain relevant medical information such as a state vaccination registry or commercial entity that maintains medical or vaccination information. Information is also collected from security systems monitoring access to Board facilities or events, such as video surveillance and turnstiles, human resources systems, emergency notification systems, and federal, state, and local agencies assisting with the response to a public health emergency or similar health and safety concerns. Information may also be collected from companies responsible for managing the Board's leased office or event spaces or from third parties in the course of the Board's contact tracing activities.

ROUTINE USES OF RECORDS MAINTAINED IN THE SYSTEM, INCLUDING CATEGORIES OF USERS AND PURPOSES OF SUCH USES:

General routine uses A, B, C, D, F, G, H, I, and J apply to this system. These general routine uses are located at https://www.federalreserve.gov/files/SORN-page-general-routine-uses-of-board-systems-of-records.pdf and are published in the Federal Register at 83 FR 43872 at 43873-74 (August 28, 2018). In addition, records may also be disclosed:

(a) To federal agencies such as the U.S. Department of Health and Human Services, state and local health departments, and other public health or cooperating medical authorities in connection with program activities and related collaborative efforts to deal more effectively with exposures to communicable diseases and other health hazards, and to satisfy mandatory reporting requirements when applicable.

(b) To appropriate federal, state, local, tribal, foreign governmental agencies or multilateral governmental organizations, or Federal Reserve Banks, to the extent permitted by law, and in consultation with legal counsel, for the purpose of protecting the interests of a Board employee, contractor, or other individual, including to assist such agencies or organizations in preventing exposure to or transmission of a communicable disease or to combat other significant public health threats.

(c) To any individual when necessary to trace suspected or confirmed exposures to communicable diseases or hazardous agents or materials that are the subject of a public health emergency or similar health and safety concerns at Board facilities, Board events, or elsewhere during the conduct of official Board business and to notify exposed individuals.

POLICIES AND PRACTICES FOR STORAGE OF RECORDS:

Paper records in this system are stored in locked file cabinets with access limited to staff with a need to know. Electronic records are stored on a secure server with access limited to staff with a need to know.

POLICIES AND PRACTICES FOR RETRIEVAL OF RECORDS:

Records may be retrieved by name or other identifying aspects.

POLICIES AND PRACTICES FOR RETENTION AND DISPOSAL OF RECORDS:

The retention for these records is currently under review. Until review is completed, the records in the system will not be destroyed.

ADMINISTRATIVE, TECHNICAL, AND PHYSICAL SAFEGUARDS:

Paper records are secured by lock and key and electronic files are stored on secure servers. The system has the ability to track individual user actions within the system. The audit and accountability controls are based on NIST and Board standards which, in turn, are based on applicable laws and regulations. The controls assist in detecting security violations and performance or other issues in the system. Access to the system is restricted to authorized users who require access for official business purposes. Users are classified into different roles and common access and usage rights are established for each role. User roles are used to delineate between the different types of access requirements such that users are restricted to data that is required in the performance of their duties. Periodic assessments and reviews are conducted to determine whether users still require access, have the appropriate role, and whether there have been any unauthorized changes.

RECORD ACCESS PROCEDURES:

The Privacy Act allows individuals the right to access records maintained about them in a Board system of records. Your request for access must: (1) Contain a statement that the request is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

You may submit your Privacy Act request to the—Secretary of the Board, Board of Governors of the Federal Reserve System, 20th Street and Constitution Avenue NW, Washington, DC 20551.

You may also submit your Privacy Act request electronically through the Board's FOIA “Electronic Request Form” located here: https://www.federalreserve.gov/secure/forms/efoiaform.aspx.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) Provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

None.

HISTORY: None.

Board of Governors of the Federal Reserve System, November 1, 2021.
Ann E. Misback,
Secretary of the Board.

[FR Doc. 2021-24159 Filed 11-4-21; 8:45 am]

BILLING CODE P